NUCLEAR REGULATORY COMMISSION

[Docket No. 40-9027; License No. SMC-1562]

Removal of the Cabot Corporation, Inc., Site in Revere, Pennsylvania From the Cabot License and the Site Decommissioning Management Plan

AGENCY: Nuclear Regulatory Commission.

ACTION: Notice of license amendment.

This notice is to inform the public that the United States Nuclear Regulatory Commission (the Commission) is amending Source Material License SMC-1562 issued to Cabot Corporation, Inc. (Cabot, formerly Kawecki Chemical Company—Penn Rare Division, and Kawecki Berylco Industries) to remove the Revere, Pennsylvania, site. Cabot processed pyrochlore-bearing ores to extract columbium and tantalum metals for use in high-strength alloys and electronic component manufacture. The ore processing generated waste slag contaminated with natural uranium and thorium. The Commission is releasing the Cabot site in Revere, Pennsylvania, for unrestricted use, is removing the site from the Site Decommissioning Management Plan (SDMP), and is removing the site from License SMC-1562. In 1990, the Commission developed the SDMP program for sites that warranted special attention to ensure timely decommissioning. This list included the Cabot Revere site. Cabot has supplied, and the Commission has reviewed, site characterization and dose assessment information. Based on the Commission's review, the Commission concludes that the unrestricted release dose criteria in 10 CFR 20.1402 have been met. Therefore the Commission concludes that the site is suitable for release for unrestricted use, and the Revere site is being removed from the SDMP and License SMC-1562.

This termination will be reopened only if additional contamination is found indicating a significant threat to the health and safety of the public and the environment, or if the licensee had provided false information.

Dated at Rockville, Maryland, this 4th day of September, 2001.
For the Nuclear Regulatory Commission.
Larry W. Camper,
Chief, Decommissioning Branch, Division of Waste Management, Office of Nuclear Material Safety and Safeguards.

[FR Doc. 01-22865 Filed 9-11-01; 8:45 am]

BILLING CODE 7590-01-P